DEPARTMENT OF DEFENSE

Office of the Secretary

[Docket ID: DoD-2015-OS-0090]

Defense Personal Property Program (DP3)

AGENCY: United States Transportation Command (USTRANSCOM), DoD.

ACTION: Notice.

SUMMARY: The DoD is not proceeding with the proposed Defense Personal Property Program (DP3) Household Goods Channeling Pilot Test, as set forth in the September 8, 2015 notice (80 FR 53786). We appreciate all inputs made toward providing the information necessary to reach this conclusion.

Dated: February 11, 2016.
Aaron Siegel,
Alternate OSD Federal Register Liaison Officer, Department of Defense.

[FR Doc. 2016-03290 Filed 2-17-16; 8:45 am]

BILLING CODE 5001-06-P